DEPARTMENT OF HEALTH AND HUMAN SERVICES

Substance Abuse and Mental health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Confidentiality of Alcohol and Drug Abuse Patient Records—(OMB No. 0930-0092)—Revision

Statute (42 U.S.C. 290dd-2) and regulations (42 CFR Part 2) require federally conducted, regualted, or directly or indirectly assisted alcohol and drug abuse programs to keep alcohol and drug abuse patient records confidential. Information requirements are (1) written disclosure to patients about Federal laws and regulations that protect the confidentiality of each patient, and (2) documenting “medical personnel” status of recipients of a disclosure to meet a medical emergency. Annual burden estimates for these requirements are summarized in the table below:

Annualized Burden Estimates
| Annual number of respondents ¹ | Responses per respondent | Total responses | Hours per response | Total hour burden
Disclosure:
42 CFR 2.22 | 10,629 | 174 | ² 1,849,548 | .20 | 369,910
Recordkeeping:
42 CFR 2.51 | 10,629 | 2 | 21,258 | .167 | 3,550
Total | 10,629 |  | 1,870,806 |  | 373,460
¹ The number of publicly funded alcohol and drug facilities from SAMHSA's 2005 National Survey of Substance Abuse Treatment Services (N-SSATS).
² The number of treatment admissions from SAMHSA's 2005 Treatment Episode Data Set (TEDS).

Written comments and recommendations concerning the proposed information collection should be sent by September 4, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 30, 2007.
Elaine Parry,
Acting Director, Office of Program Services.

[FR Doc. 07-3769 Filed 8-1-07; 8:45 am]

BILLING CODE 4162-20-M